DEPARTMENT OF HOMELAND SECURITY

Coast Guard

[Docket No. USCG-2010-0164]

National Boating Safety Advisory Council

AGENCY: Coast Guard, DHS.

ACTION: Notice of Federal Advisory Committee meeting.

SUMMARY: The National Boating Safety Advisory Council and its Subcommittees will meet on October 20, 21 and 22, 2016, in Arlington, VA, to discuss issues relating to recreational boating safety. These meetings will be open to the public.

DATES: The National Boating Safety Advisory Council will meet on Thursday, October 20, 2016, from 8:00 a.m. to 2:30 p.m. and on Saturday, October 22, 2016 from 9:00 a.m. to 12:00 p.m. The Boats and Associated Equipment Subcommittee will meet on October 20, 2016, from 2:45 p.m. to 5:00 p.m. The Prevention through People Subcommittee will meet on October 21, 2016, from 8:30 a.m. to 11:45 a.m. The Recreational Boating Safety Strategic Planning Subcommittee will meet on October 21, 2016, from 1:00 p.m. to 5:00 p.m. Please note that these meetings may conclude early if the National Boating Safety Advisory Council has completed all business.

ADDRESSES: All meetings will be held in the Ballroom of the Holiday Inn Arlington (http://www.hiarlington.com), 4610 N Fairfax Drive, Arlington, VA 22203.

For information on facilities or services for individuals with disabilities or to request special assistance at the meeting, contact the individual listed in the FOR FURTHER INFORMATION CONTACT section below as soon as possible.

Instructions: To facilitate public participation, we are inviting public comment on the issues to be considered by the Council as listed in the “Agenda” section below. Written comments for distribution to Council members must be submitted no later than October 1, 2016, if Council review is desired prior to the meeting. You must include “Department of Homeland Security” and the docket number USCG-2010-0164. Written comments may also be submitted using the Federal eRulemaking Portal at http://www.regulations.gov. For technical difficulties, contact the individual listed in the FOR FURTHER INFORMATION CONTACT section below. Comments received will be posted without alteration at http://www.regulations.gov, including any personal information provided. You may review a Privacy Act notice regarding the Federal Docket Management System in the March 24, 2005, issue of the Federal Register (70 FR 15086).

Docket Search: For access to the docket to read documents or comments related to this notice, go to http://www.regulations.gov insert USCG-2010-0164 in the “Search” box, press Enter, then click the item you wish to view.

FOR FURTHER INFORMATION CONTACT: Mr. Jeff Ludwig, Alternate Designated Federal Officer of the National Boating Safety Advisory Council, telephone (202) 372-1061, or at jeffrey.a.ludwig@uscg.mil.

SUPPLEMENTARY INFORMATION: Notice of this meeting is given under the Federal Advisory Committee Act (Title 5, U.S.C., Appendix). Congress established the National Boating Safety Advisory Council in the Federal Boat Safety Act of 1971 (Pub. L. 92-75). The National Boating Safety Advisory Council currently operates under the authority of 46 U.S.C. 13110 and 46 U.S.C. 4302(c). The latter requires the Secretary of Homeland Security and the Commandant of the Coast Guard by delegation to consult with the National Boating Safety Advisory Council in prescribing regulations for recreational vessels and associated equipment and on other major safety matters.

Meeting Agenda

The agenda for the National Boating Safety Advisory Council meeting is as follows:

Thursday, October 20, 2016

(1) Opening remarks and presentation of awards to outgoing members.

(2) Receipt and discussion of the following reports:

(a) Chief, Office of Auxiliary and Boating Safety, Update on the Coast Guard's implementation of National Boating Safety Advisory Council Resolutions and Recreational Boating Safety Program report.

(b) Alternate Designated Federal Officer's report concerning Council administrative and logistical matters.

(3) Presentations on the following:

(a) Distracted Driving.

(b) Human Performance in Investigations.

(c) Human Factors Analysis and Classification System.

(4) Subcommittee Session: Boats and Associated Equipment Subcommittee.

Issues to be discussed include alternatives to pyrotechnic visual distress signals; grant projects related to boats and associated equipment; and updates to 33 CFR 181 “Manufacturer Requirements” and 33 CFR 183 “Boats and Associated Equipment.”

(5) Public comment period.

(6) Meeting Recess.

Friday, October 21, 2016

The day will be dedicated to Subcommittee sessions:

(1) Prevention Through People Subcommittee.

Issues to be discussed include paddlesports participation, overview of State boating Safety programs, and licensing requirements for on-water boating safety instruction providers.

(2) Recreational Boating Safety Strategic Planning Subcommittee.

Issues to be discussed include progress on implementation of the 2012-2016 Strategic Plan, and development of the 2017-2021 Strategic Plan.

Saturday, October 22, 2016

The full Council will resume meeting.

(1) Receipt and Discussion of the Boats and Associated Equipment, Prevention through People and The Recreational Boating Safety Strategic Planning Subcommittee reports.

(2) Discussion of any recommendations to be made to the Coast Guard.

(3) Public comment period.

(4) Voting on any recommendations to be made to the Coast Guard.

(5) Adjournment of meeting.

There will be a comment period for the National Boating Safety Advisory Council members and a comment period for the public after each report presentation, but before each is voted on by the Council. The Council members will review the information presented on each issue, deliberate on any recommendations presented in the Subcommittees' reports, and formulate recommendations for the Department's consideration.

The meeting agenda and all meeting documentation can be found at: http://homeport.uscg.mil/NBSAC. Alternatively, you may contact Mr. Jeff Ludwig as noted in the FOR FURTHER INFORMATION CONTACT section above.

Public comments or questions will be taken throughout the meeting as the Council discusses the issues and prior to deliberations and voting. There will also be a public comment period at the end of the meeting. Speakers are requested to limit their comments to 3 minutes. Please note that the public comment period may end before the period allotted, following the call for comments. Contact the individual listed in the FOR FURTHER INFORMATION CONTACT section above to register as a speaker.

Dated: September 20, 2016.
Verne B. Gifford, Jr.,
Captain, U.S. Coast Guard, Director of Inspections and Compliance.

[FR Doc. 2016-23110 Filed 9-23-16; 8:45 am]

BILLING CODE 9110-04-P